DEPARTMENT OF COMMERCE

International Trade Administration

Advisory Committee on Supply Chain Competitiveness Renewal

AGENCY: International Trade Administration, U.S. Department of Commerce.

ACTION: Notice.

SUMMARY: The Department of Commerce, with the concurrence of the General Services Administration, renewed the Advisory Committee on Supply Chain Competitiveness.

DATES: The charter for the Advisory Committee on Supply Chain Competitiveness was renewed on November 9, 2023.

FOR FURTHER INFORMATION CONTACT: Richard Boll, Designated Federal Officer, Room 11004, U.S. Department of Commerce, 1401 Constitution Avenue NW, Washington, DC 20230; phone 202-482-1135; email: richard.boll@trade.gov.

SUPPLEMENTARY INFORMATION: The Department of Commerce, with the concurrence of the General Services Administration, renewed the Advisory Committee on Supply Chain Competitiveness. The effective date of the charter renewal is November 9, 2023. This Notice is published in accordance with the Federal Advisory Committee Act (FACA). It has been determined that renewal of the Committee is necessary and in the public interest. The Committee was established pursuant to Commerce's authority under 15 U.S.C. 1512, in accordance with the FACA, and with the concurrence of the General Services Administration. The Committee provides advice to the Secretary on the necessary elements of a comprehensive policy approach to supply chain competitiveness designed to support U.S. export growth and national economic competitiveness, encourage innovation, facilitate the movement of goods, and improve the competitiveness of U.S. supply chains for goods and services in the domestic and global economy; and to provide advice to the Secretary on regulatory policies and programs and investment priorities that affect the competitiveness of U.S. supply chains. The total number of members that may serve on the Committee is a maximum of 45.

Dated: November 29, 2023.
Heather Sykes,
Director, Office of Supply Chain Services.

[FR Doc. 2023-26536 Filed 12-1-23; 8:45 am]

BILLING CODE 3510-DR-P